INTERNATIONAL TRADE COMMISSION

[Investigation No. 332-567]

Generalized System of Preferences: Possible Modifications, 2017 Review

AGENCY: United States International Trade Commission.

ACTION: Notice of amendment of scope of investigation.

SUMMARY: Following receipt on June 6, 2018 of a correction to the United States Trade Representative's (USTR) request letter of May 18, 2018, the U.S. International Trade Commission (Commission) has amended the scope of its investigation No. 332-567, Generalized System of Preferences: Possible Modifications, 2017 Review, and will treat ferroniobium, nesoi, from Brazil, provided for in subheading 7202.93.80 of the Harmonized Tariff Schedule, as having been listed in Table E of the Annex to the USTR's request letter instead of Table D. As a result, the Commission will also provide advice for this article with respect to whether a like or directly competitive article was being produced in the United States in any of the preceding three calendar years.

DATES:

June 4, 2018: Deadline for filing requests to appear at the public hearing.

June 7, 2018: Deadline for filing pre-hearing briefs and statements.

June 14, 2018: Public hearing.

June 21, 2018: Deadline for filing post-hearing briefs and statements.

June 21, 2018: Deadline for filing all other written submissions.

September 7, 2018: Transmittal of Commission report to the USTR.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov.

FOR FURTHER INFORMATION CONTACT: Information specific to this investigation may be obtained from Sabina Neumann, Project Leader, Office of Industries (202-205-3000 or sabina.neumann@usitc.gov), Mark Brininstool, Deputy Project Leader, Office of Industries (202-708-1395 or mark.brininstool@usitc.gov), or Marin Weaver, Technical Advisor, Office of Industries (202-205-3461 or marin.weaver@usitc.gov. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2000.

Background: All dates and other information relating to this investigation remain the same as in the Commission's notice of investigation and public hearing issued on May 23, 2018 and published in the Federal Register of May 25, 2018 (83 FR 24342).

By order of the Commission.
Issued: June 14, 2018.
Lisa Barton,
Secretary to the Commission.

[FR Doc. 2018-13176 Filed 6-19-18; 8:45 am]

BILLING CODE 7020-02-P